OFFICE OF PERSONNEL MANAGEMENT

5 CFR Part 532

RIN 3206-AJ00

Prevailing Rate Systems; Abolishment of the Franklin, PA, Nonappropriated Fund Wage Area

AGENCY: Office of Personnel Management.

ACTION: Interim rule with request for comments.

SUMMARY: The Office of Personnel Management is issuing an interim rule that will abolish the Franklin, PA, nonappropriated fund (NAF) Federal Wage System (FWS) wage area and redefine Franklin and Blair Counties, PA, to the Cumberland, PA, NAF FWS wage area. The abolishment of the Franklin, PA, wage area is necessary because of the recent downsizing at the Franklin, PA, wage area's host installation, Letterkenny Army Depot. This downsizing left the Department of Defense without an installation in the survey area capable of hosting local wage surveys in the wage area.

DATES: Effective date: This interim rule is effective on February 29, 2000. Applicability date: FWS employees remaining in Franklin and Blair Counties, PA, will be transferred to the Cumberland, PA, NAF wage area schedule on the first day of the first applicable pay period beginning on or after March 16, 2000. Comments must be received by March 30, 2000.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Jennifer Hopkins by phone at (202) 606-2848, by FAX at (202) 606-0824, or by email at jdhopkin@opm.gov.

SUPPLEMENTARY INFORMATION: The Franklin, PA, nonappropriated fund (NAF) Federal Wage System (FWS) wage area is presently composed of one survey county, Franklin County, and one area of application county, Blair County, PA. Under section 532.219(b) of title 5, Code of Federal Regulations, NAF wage areas are established when there are a minimum of 26 NAF wage employees in the survey area, the local activity has the capability to host annual local wage surveys, and there are within the survey area a minimum of 1,800 private enterprise employees in establishments within survey specifications. Although there are approximately 26 NAF FWS employees stationed in the Franklin wage area, downsizing at the Franklin, PA, wage area's host activity, Letterkenny Army Depot, left the Department of Defense (DOD) without an activity in the survey area with the capability to conduct local NAF wage surveys in the wage area. DOD recommended that the Office of Personnel Management (OPM) abolish the Franklin, PA, NAF wage area, and redefine its counties as area of application counties to the Cumberland, PA, NAF wage area. The Cumberland, PA, wage area will be composed of one survey county, Cumberland County, PA, and two area of application counties, Blair and Franklin Counties, PA.

When defining NAF wage areas, OPM evaluates several factors under 5 CFR 532.219. OPM considers the following criteria when defining NAF wage area boundaries:

(i) Proximity of largest activity in each county;

(ii) Transportation facilities and commuting patterns; and

(iii) Similarities of the counties in :

(A) Overall population;

(B) Private employment in major industry categories; and

(C) Kinds and sizes of private industrial establishments.

For Franklin County, the closest major Federal installation to Letterkenny Army Depot is Carlisle Barracks in Cumberland, PA. Letterkenny Army Depot is approximately 50 km (31 miles) from Carlisle Barracks. Commuting patterns indicate that approximately 5 percent of the Franklin County, PA, resident workforce commutes into Cumberland County, PA. Transportation facilities consist of major Interstate and State highways and do not favor one county more than another. Also, a review of the similarities of the counties in terms of overall population, employment, and kinds and sizes of industrial establishments does not favor one county more than another.

For Blair County, the closest major Federal installation to the Department of Veterans Affairs Medical Center, Altoona, is the U.S. Army Support Element in Allegheny County, PA. The VA Medical Center is approximately 175 km (109 miles) from the U.S. Army Support Element. However, the VA Medical Center is approximately 190 km (118 miles) from Carlisle Barracks. Commuting patterns were indeterminate. Transportation facilities consist of major Interstate and State highways and do not favor one county more than another.

Also, a review of the similarities of the counties in terms of overall population, employment, and kinds and sizes of industrial establishments did favor Cumberland County, PA. Therefore, OPM finds that Blair County best fits with Cumberland County because the proximity and commuting patterns criteria offered no convincing evidence for combining Blair County with the Allegheny wage area, but demographic and economic statistics show that Blair County is more similar to the Cumberland, PA, wage area.

Based on an analysis of these regulatory criteria, OPM is abolishing the Franklin, PA, NAF FWS wage area and redefining its counties as area of application counties to the Cumberland, PA, NAF FWS wage area. FWS employees remaining in the Franklin wage area will be transferred to the Cumberland, PA, wage area schedule on the first day of the first applicable pay period beginning on or after March 16, 2000. The Federal Prevailing Rate Advisory Committee, the national labor-management committee responsible for advising OPM on matters concerning the pay of FWS employees, has reviewed and concurred by consensus with these changes.

Waiver of Notice of Proposed Rulemaking

Pursuant to section 553(b)(3)(B) of title 5, United States Code, I find that good cause exists for waiving the general notice of proposed rulemaking. Also, pursuant to 5 U.S.C. 553(d)(3), I find that good cause exists for making this rule effective in less than 30 days. The notice is being waived and the regulation is being made effective in less than 30 days because of the need to transfer the remaining NAF FWS employees in Franklin and Blair Counties to a continuing wage area as soon as possible.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management amends 5 CFR part 532 as follows:

PART 532—PREVAILING RATE SYSTEMS

1. The authority citation for part 532 continues to read as follows:

Authority: 5 U.S.C. 5343, 5346; § 532.707 also issued under 5 U.S.C. 552.

2. Appendix B to subpart B of part 532 is amended for the State of Pennsylvania by removing the entry for “Franklin”.

3. Appendix D to subpart B is amended by removing the wage area listing for Franklin, Pennsylvania, and revising the wage area listing for Cumberland, Pennsylvania, to read as follows:

Appendix D to Subpart B of Part 532—Nonappropriated Fund Wage and Survey Areas

* * * * *
PENNSYLVANIA
* * * * *
CUMBERLAND
Survey Area
Pennsylvania: Cumberland
Area of Application. Survey area plus:
Pennsylvania: Blair, Franklin

[FR Doc. 00-4688 Filed 2-28-00; 8:45 am]

BILLING CODE 6325-01-P